Executive Order 14389 of February 20, 2026

Ending Certain Tariff Actions

By the authority vested in me as President by the Constitution and the laws of the United States of America, including the International Emergency Economic Powers Act (50 U.S.C. 1701 et seq.) (IEEPA), the National Emergencies Act (50 U.S.C. 1601 et seq.), section 604 of the Trade Act of 1974, as amended (19 U.S.C. 2483), and section 301 of title 3, United States Code, it is hereby ordered:

Section 1. Background. In Executive Order 14193 of February 1, 2025 (Imposing Duties To Address the Flow of Illicit Drugs Across Our Northern Border), as amended; Executive Order 14194 of February 1, 2025 (Imposing Duties To Address the Situation at Our Southern Border), as amended; Executive Order 14195 of February 1, 2025 (Imposing Duties To Address the Synthetic Opioid Supply Chain in the People's Republic of China), as amended; Executive Order 14245 of March 24, 2025 (Imposing Tariffs on Countries Importing Venezuelan Oil); Executive Order 14257 of April 2, 2025 (Regulating Imports With a Reciprocal Tariff To Rectify Trade Practices That Contribute to Large and Persistent Annual United States Goods Trade Deficits), as amended; Executive Order 14323 of July 30, 2025 (Addressing Threats to the United States by the Government of Brazil), as amended; Executive Order 14329 of August 6, 2025 (Addressing Threats to the United States by the Government of the Russian Federation), as amended; Executive Order 14380 of January 29, 2026 (Addressing Threats to the United States by the Government of Cuba); and Executive Order 14382 of February 6, 2026 (Addressing Threats to the United States by the Government of Iran), I declared or described national emergencies with respect to unusual and extraordinary threats to the national security, foreign policy, or economy of the United States and took actions to deal with those threats, including by imposing, pursuant to IEEPA, additional ad valorem duties on certain imports of certain foreign trading partners.

In light of recent events, the additional ad valorem duties imposed pursuant to IEEPA in Executive Order 14193, as amended; Executive Order 14194, as amended; Executive Order 14195, as amended; Executive Order 14245; Executive Order 14257, as amended; Executive Order 14323, as amended; Executive Order 14329, as amended; Executive Order 14380; and Executive Order 14382 shall no longer be in effect and, as soon as practicable, shall no longer be collected. All other actions, including any other action taken to address the national emergencies declared or described in Executive Order 14193, Executive Order 14194, Executive Order 14195, Executive Order 14245, Executive Order 14257, Executive Order 14323, Executive Order 14329, Executive Order 14380, and Executive Order 14382, that do not impose additional ad valorem duties under IEEPA or involve steps necessary to implement the imposition of additional ad valorem duties imposed under IEEPA shall not be affected by this order. The national emergencies declared or described in Executive Order 14193, Executive Order 14194, Executive Order 14195, Executive Order 14245, Executive Order 14257, Executive Order 14323, Executive Order 14329, Executive Order 14380, and Executive Order 14382 or subsequent orders remain in effect and shall not be affected by this order.

Sec. 2. Implementation. (a) To effectuate the terminations of the actions described in section 1 of this order, the head of each executive department and agency (agency) is authorized to and shall take all appropriate steps to end the additional ad valorem duties imposed under IEEPA in Executive Order 14193, as amended; Executive Order 14194, as amended; Executive Order 14195, as amended; Executive Order 14245; Executive Order 14257, as amended; Executive Order 14323, as amended; Executive Order 14329, as amended; Executive Order 14380; and Executive Order 14382. The head of each agency shall immediately begin taking steps to effectuate this order and, as soon as practicable, terminate the collection of the additional ad valorem duties described in section 1 of this order. The head of each agency may, consistent with applicable law, including section 301 of title 3, United States Code, redelegate the authority to take such appropriate steps within the agency.

(b) The Secretary of Commerce, the Secretary of Homeland Security, and the United States Trade Representative, as appropriate and in consultation with the Commissioner of U.S. Customs and Border Protection, the Chair of the United States International Trade Commission, and any other senior official they deem appropriate, shall determine whether modifications to the Harmonized Tariff Schedule of the United States are necessary to effectuate this order and may make such modifications through notice in the Federal Register.

(c) The Executive Order of February 20, 2026 (Continuing the Suspension of Duty-Free De Minimis Treatment for All Countries), and the Proclamation of February 20, 2026 (Imposing a Temporary Import Surcharge to Address Fundamental International Payments Problems), are unaffected by this order.

(d) This order affects only the additional ad valorem duties imposed under IEEPA pursuant to the Executive Orders described in section 1 of this order. This order does not affect any other duties, including duties imposed under section 232 of the Trade Expansion Act of 1962, as amended, 19 U.S.C. 1862, and section 301 of the Trade Act of 1974, as amended, 19 U.S.C. 2411.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Homeland Security.

THE WHITE HOUSE,

February 20, 2026.

[FR Doc. 2026-03832

Filed 2-24-26; 11:15 am]

Billing code 4410-10-P